DEPARTMENT OF THE INTERIOR

Fish and Wildlife Service

Notice of Availability, Draft Restoration Plan and Environmental Assessment

AGENCY: Fish & Wildlife Service, Department of the Interior.

ACTION: Notice of availability

SUMMARY: The U.S. Fish & Wildlife Service (Service), on behalf of the Department of the Interior (DOI), as a Natural Resource Trustee (Trustee), announces the release for public review of the Draft Restoration Plan and Environmental Assessment (RP/EA) for Operable Unit 3 (OU-3) of the Asbestos Dump Superfund Site, Morris County, New Jersey. The Draft RP/EA describes the DOI's proposal to restore natural resources injured as a result of chemical contamination at the Asbestos Dump Superfund Site.

DATES: Written comments must be submitted on or before February 26, 2001.

ADDRESSES: Requests for copies of the Draft RP/EA may be made to: Clay Stern, U.S. Fish & Wildlife Service, New Jersey Field Office, 927 North Main Street, Pleasantville, New Jersey, 08232.

Written comments or materials regarding the Draft RP/EA should be sent to the same address.

FOR FURTHER INFORMATION CONTACT: Clay Stern, Environmental Contaminants Branch, U.S. Fish and Wildlife Service, New Jersey Field Office, 927 North Main Street, Pleasantville, New Jersey, 08232. Interested parties may also call 609/383-3938, x27 or send e-mail to clay_stern@fws.gov for further information.

SUPPLEMENTARY INFORMATION: Under the authority of the Comprehensive Environmental Response, Compensation, and Liability Act (CERCLA) of 1980 as amended, commonly known as Superfund, (42 U.S.C. 9601 et seq.), * * * “[Trustees] may assess damages to natural resources resulting from a discharge of oil or a release of a hazardous substance * * * and may seek to recover those damages.” Natural resource damage assessments are separate from the cleanup actions undertaken at a hazardous waste site, and provide a process whereby the Trustees can determine the proper compensation to the public for injury to natural resources. At Operable Unit 3 of the Asbestos Dump Superfund Site in Morris County, New Jersey, DOI was the sole natural resources trustee involved in the federal government's settlement with the National Gypsum Corporation (NGC). The Service, acting on behalf of the DOI, determined that contamination at OU-3 had degrated and injured trust resources within the Great Swamp National Wildlife Refuge. The injuries resulted from the deposition of asbestos containing materials, and mercuric and lead based compounds at the 5.58 acre site.

As part of a Consent Decree between the United States and NGC for response and restoration claims, DOI settled with NGC for natural resource damages. The settlement of approximately $3.6 million was designated for restoration, replacement, or acquisition of the equivalent natural resources injured by the release of contaminants at the site.

The Draft RP/EA is being released in accordance with section 111(i) of CERCLA, 42 U.S.C. 9611(i) and NEPA. The Draft RP/EA describes several natural resource restoration, acquisition, and protection alternatives identified by the DOI, and evaluates each of the possible alternatives based on all relevant considerations. The DOI's Preferred Alternative is to use the settlement funds in a combination of projects aimed to restore, enhance, and protect in perpetuity, fish and wildlife habitat within the Great Swamp Watershed. Details regarding the proposed projects are contained in the Draft RP/EA.

Interested members of the public are invited to review and comment on the Draft RP/EA. Copies of the Draft RP/EA are available from the Service's New Jersey Field Office at 927 North Main Street, Pleasantville, New Jersey, 08232, or at the Great Swamp National Wildlife Refuge Headquarters, 152 Pleasantville, New Jersey, 08232, or at the Great Swamp National Wildlife Refuge Headquarters, 152 Pleasant Plains Road, Basking Ridge, New Jersey, 07920. Additionally, the Draft RP/EA is available for review at the Long Hill Township Library, 91 Central Avenue, Stirling, New Jersey, 07980, and the Harding Township Town Hall, located at the corners of Blue Mill Road and Sand Spring Road, New Vernon, New Jersey, 07976. All comments received on the Draft RP/EA will be considered and a response provided either through revision of this Draft RP/EA and incorporation into the Final Restoration Plan and Environmental Assessment, or by letter to the commentor.

Author

The primary author of this notice is Clay Stern, U.S. Fish & Wildlife Service, New Jersey Field Office, 927 North Main Street, Pleasantville, New Jersey, 08232.

Authority

The authority for this action is the Comprehensive Environmental Response, Compensation, and Liability Act (CERCLA) of 1980 as amended, commonly known as Superfund, (42 U.S.C. 9601 et seq.).

Dated: January 3, 2001.
G. Adam O'Hara,
Acting Regional Director, Region 5, U.S. Fish & Wildlife Service.

[FR Doc. 01-593 Filed 1-9-01; 8:45 am]

BILLING CODE 4310-55-M